FEDERAL TRADE COMMISSION

16 CFR Part 260

RIN 3084-AB15

Guides for the Use of Environmental Marketing Claims

AGENCY: Federal Trade Commission.

ACTION: Regulatory review; extension of comment period.

SUMMARY: The Federal Trade Commission (“FTC” or “Commission”) extends the comment period for its Regulatory Review Notice regarding its Guides for the Use of Environmental Marketing Claims (“Green Guides” or “Guides”).

DATES: The deadline for comments on the document published on December 20, 2022 (87 FR 77766) is extended from February 21, 2023, to April 24, 2023.

FOR FURTHER INFORMATION CONTACT: Hampton Newsome (202-326-2889) or Julia Solomon Ensor (202-326-2377), Division of Enforcement, Bureau of Consumer Protection, Federal Trade Commission, 600 Pennsylvania Avenue NW, Washington, DC 20580.

SUPPLEMENTARY INFORMATION: On December 20, 2022 (87 FR 77766), the Commission published a document initiating its review of the Green Guides as part of the Commission's periodic review of all rules and guides to: (1) examine their efficacy, costs, and benefits; and (2) determine whether to retain, modify, or rescind them. The publication set the comment deadline as February 21, 2023.

Several interested parties have now requested a 60-day extension of the public comment period to conduct consumer survey research and account for issues such as the extensive range of issues involved with the review, significant market changes since the last review of the Guides, the fact that the comment period spanned the holiday season, and supply chain disruptions affecting commenting organizations.¹

¹ See Docket ID FTC-FTC-2022-0077-0008 (Jan. 9, 2022) (“Comment Submitted by FMI—The Food Industry Association”), https://www.regulations.gov/comment/FTC-2022-0077-0008; Docket ID FTC-FTC-2022-0077-0010 (Jan. 11, 2022) (“Comment Submitted by Household & Commercial Products Association”), https://www.regulations.gov/comment/FTC-2022-0077-0010 (“Comment Submitted by Household & Commercial Products Association”); Docket ID FTC-2022-0077-0011) (Jan. 10, 2023) (“Comment Submitted by Consumer Brands Association on behalf of Coalition of Stakeholders”), https://www.regulations.gov/comment/FTC-2022-0077-0011; Docket ID FTC-2022-0077-0022) (Jan. 18, 2023) (“Comment Submitted by American Sustainable Business Network, Beyond Plastics, Just Zero, The Last Beach Cleanup, Plastic Pollution Coalition”), https://www.regulations.gov/comment/FTC-2022-0077-0022.

The Commission agrees that allowing additional time for filing comments in response to the document would help facilitate the creation of a more complete record. The Commission has therefore decided to extend the comment period to April 24, 2023.

By direction of the Commission.
April J. Tabor,
Secretary.

[FR Doc. 2023-02354 Filed 2-3-23; 8:45 am]

BILLING CODE 6750-01-P